ENVIRONMENTAL PROTECTION AGENCY

[FRL-7887-3]

National Drinking Water Advisory Council's Water Security Working Group Teleconference Announcement

AGENCY: Environmental Protection Agency.

ACTION: Notice.

SUMMARY: The Environmental Protection Agency (EPA) announces the second public teleconference of the Water Security Working Group (WSWG) of the National Drinking Water Advisory Council (NDWAC), which was established under the Safe Drinking Water Act. The purpose of this teleconference call is to provide an opportunity for the WSWG members to continue deliberations on their draft report and recommendations on features of active and effective security programs for the water sector (drinking water and wastewater utilities), including incentives to encourage broad adoption of active and effective security programs and measures to track the performance of water security programs. The teleconference will be open to the public by advance registration; an opportunity for public comment will be provided during that time. WSWG findings and recommendations will be provided to the NDWAC for their consideration. The WSWG anticipates providing findings and recommendations to the NDWAC in spring 2005. The WSWG has met in-person four times and had one previous public teleconference. One additional in-person meeting of the WSWG and one additional public teleconference are planned and will be announced in the near future.

DATES: The second WSWG teleconference will take place from 1:30 p.m. to 3:30 p.m., eastern standard time, on Thursday, April 7, 2005.

ADDRESSES: The teleconference will be held in the EPA East Building, which is located at 1201 Constitution Avenue, NW., Washington, DC 20004.

FOR FURTHER INFORMATION CONTACT: Interested participants from the public should contact Marc Santora, Designated Federal Officer, U.S. Environmental Protection Agency, Office of Ground Water and Drinking Water, Water Security Division (Mail Code 4601-M), 1200 Pennsylvania Avenue, NW., Washington, DC 20460. Please contact Marc Santora at santora.marc@epa.gov or call (202) 564-1597 to register and receive pertinent details such as the telephone number and extension to participate in the teleconference.

SUPPLEMENTARY INFORMATION:

Background

The WSWG charge is to: (1) Identify, compile, and characterize best security practices and policies for drinking water and wastewater utilities and provide an approach for considering and adopting these practices and policies at a utility level; (2) consider mechanisms to provide recognition and incentives that facilitate a broad and receptive response among the water sector to implement these best security practices and policies and make recommendations as appropriate; and (3) consider mechanisms to measure the extent of implementation of these best security practices and policies, identify the impediments to their implementation, and make recommendations as appropriate. The Group is comprised of sixteen members from water and wastewater utilities, public health, academia, state regulators, and environmental and community interests. It is supported by technical experts from the Environmental Protection Agency, the Department of Homeland Security, the Centers for Disease Control and Prevention, and the Department of Defense.

Obtaining Teleconference Information

Teleconference lines are available on a first-come, first-served basis. The Designated Federal Officer will reserve a limited amount of teleconference lines for members of the public that are outside of the Washington, DC metropolitan commuting area and are unable to attend in person. Any interested person who wishes to obtain the teleconference information must contact the Designated Federal Officer at the phone number or e-mail address listed in the FOR FURTHER INFORMATION CONTACT section of this notice. Contact must be made at least twenty-four hours in advance of the scheduled start of the teleconference to obtain the call information.

Public Comment

An opportunity for public comment will take place during the WSWG teleconference. Oral statements will be limited to five minutes, and it is preferred that only one person present a statement on behalf of a group or organization. Written comments may be provided before, during, or after the meeting and may also be sent by e-mail to Marc Santora, Designated Federal Officer for the WSWG, at the e-mail address listed in the FOR FURTHER INFORMATION CONTACT section of this notice.

Special Accommodations: Any person needing special accommodations at this meeting, including wheelchair access, should contact Marc Santora, Designated Federal Officer, at the number or e-mail address listed in the FOR FURTHER INFORMATION CONTACT section of this notice. Requests for special accommodations should be made at least five business days in advance of the WSWG teleconference.

Dated: March 15, 2005.
Cynthia C. Dougherty,
Director, Office of Ground Water and Drinking Water.

[FR Doc. 05-5519 Filed 3-18-05; 8:45 am]

BILLING CODE 6560-50-P